DEPARTMENT OF DEFENSE

Department of the Army

Interim Change to the Military Freight Traffic Unified Rules Publication (MFTURP) No. 1

AGENCY: Department of the Army, DoD.

SUMMARY: The Military Surface Deployment and Distribution Command (SDDC) is providing notice that it released an interim change to the MFTURP No. 1 on April 26, 2010. The interim change adds safety requirements for Motor Carriers authorized to provide Satellite Motor Surveillance (SNS) (and DDP and PSS) for 1.1 to 1.3 Ammunition and Explosives (A&E) to Section A, Part II, Paragraph D, Transportation Protective Service (TPS) for Sensitive Conventional Arms, Ammunition and Explosives (AA&E), Classified (Secret and Confidential), and Controlled Cryptographic Items.

ADDRESSES: Submit comments to Publication and Rules Manager, Strategic Business Directorate, Business Services, 661 Sheppard Place, ATTN: SDDC-OPM, Fort Eustis, VA 23604-1644. Request for additional information may be sent by e-mail to: tony.mayo@us.army.mil or jessica.c.hamilton@us.army.mil.

FOR FURTHER INFORMATION CONTACT: Ms. Jessica Hamilton, (757) 878-8237, or Mr. Tony Mayo, (757) 878-8742.

SUPPLEMENTARY INFORMATION: References: Military Freight Traffic Unified Rules Publications (MFTURP) No. 1.

Background: Addition of safety requirements satisfies the petition submitted by commercial carriers requesting additional safety standards for carriers providing transportation protective services (TPS).

Miscellaneous: The MFTURP No. 1, as well as the other SDDC publications, can be accessed via the SDDC Web site at: http://www.sddc.army.mil/Public/Global%20Cargo%20Distribution/Domestic/Publications/.

C.E. Radford, III,
Division Chief, G9, Strategic Business Directorate.

[FR Doc. 2010-10511 Filed 5-4-10; 8:45 am]

BILLING CODE 3710-08-P